DEPARTMENT OF COMMERCE

National Oceanic and Atmospheric Administration

Fair Market Value Analysis for a Fiber Optic Cable Permit in National Marine Sanctuaries

AGENCY: Office of National Marine Sanctuaries (ONMS), National Ocean Service (NOS), National Oceanic and Atmospheric Administration (NOAA), Department of Commerce (DOC).

ACTION: Notice of availability.

SUMMARY: Notice is hereby given that NOAA is requesting comments on the report “Fair Market Value Analysis for a Fiber Optic Cable Permit in National Marine Sanctuaries” and two peer reviews of this report. The report and peer reviews are available for download at http://www.sanctuaries.nos.noaa.gov/news/newsbboard/newsbboard.html or by requesting an electronic or hard copy. Requests can be made by sending an email to submarine.cables@noaa.gov (subject line “Request for Fair Market Value Analysis”) or by calling Matt Brookhart at (301) 713-3125 x140.

DATES: Comments on this notice must be received by January 18, 2001.

ADDRESSES: Address all comments regarding this notice to Matt Brookhart, Conservation Policy and Planning Branch, Office of National Marine Sanctuaries, 1305 East-West Highway, 11th Floor, Silver Spring, MD 20910, Attention: Fair Market Value Analysis. Comments may also be submitted by email to: submarine.cables@noaa.gov, subject line “Fair Market Value Analysis.”

FOR FURTHER INFORMATION CONTACT: Helen Golde, (301) 713-3125 x152.

SUPPLEMENTARY INFORMATION: The Office of National Marine Sanctuaries has issued several special-use permits to companies seeking to install fiber optic cables in National Marine Sanctuaries. The Sanctuary statute allows ONMS to permit the presence of cables on the sanctuaries' seafloor should it decide to do so. If an application is approved, ONMS may collect certain administrative and monitoring fees. In addition, ONMS is entitled to receive fair market value for the permitted use of sanctuary resources.

The report “Fair Market Value Analysis for a Fiber Optic Cable Permit in National Marine Sanctuaries” presents an assessment of fair market value for the use of National Marine Sanctuary resources for a fiber optic cable. Proper stewardship of sanctuary resources and open and equitable relations with telecommunication industry interests require a clear and consistent policy in this matter. The content of this report is based on dozens of industry and government sources and draws on the collaboration and review of numerous experts in the business, legal and technical arenas.

Once finalized, the fee structure proposed in this report will be used to assess fees (as stated in their respective special use permits) for cables already installed in the Olympic Coast and Stellwagen Bank National Marine Sanctuaries. In addition, this structure will provide the basis for future fair market value assessment of submarine cable permit applications in National Marine Sanctuaries. Comments on the report and peer reviews should focus on the methodology employed and the conclusions that it reached.

Dated: December 29, 2000.
John Oliver,
Chief Financial Officer, National Ocean Service.

[FR Doc. 01-387 Filed 1-4-01; 8:45 am]

BILLING CODE 3510-08-P